DEPARTMENT OF THE INTERIOR

National Park Service

[2280-665]

National Register of Historic Places; Notification of Pending Nominations and Related Actions

Nominations for the following properties being considered for listing or related actions in the National Register were received by the National Park Service before January 29, 2011. Pursuant to sections 60.13 or 60.15 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by March 17, 2011.

Before including your address, phone number, e-mail address, or other personal identifying information in your comment, you should be aware that your entire comment—including your personal identifying information—may be made publicly available at any time. While you can ask us in your comment to withhold your personal identifying information from public review, we cannot guarantee that we will be able to do so.

Paul Loether,
Chief, National Register of Historic Places/National Historic Landmarks Program.

ARIZONA

Pima County

Wright, Harold Bell, Estates, Roughly bounded by N Wilmot Rd on the W, E Speedway Blvd on N, El Dorado Hills subdivision on the E, Tucson, 11000082

GEORGIA

Catoosa County

Ringgold Gap Battlefield, (Chickamauga-Chattanooga Civil War-Related Sites in Georgia and Tennessee MPS) White Oak Mountain, E of Ringgold and N of I75, and the NE face of Taylor Ridge S of I75, Ringgold, 11000079

OKLAHOMA

Oklahoma County

First Christian Church Historic District, 3700 N Walker Ave, Oklahoma City, 11000081

Tulsa County

Cities Service Station #8, (Route 66 and Associated Resources in Oklahoma AD MPS) 1648 SW Boulevard, Tulsa, 11000080

OREGON

Marion County

Adams, Louis J., House, (Silverton, Oregon, and Its Environs MPS) 423 W Main St, Silverton, 11000076

DeGuire, Murton E. and Lillian, House, (Silverton, Oregon, and Its Environs MPS) 631 B St, Silverton, 11000077

Drake, June D., House, (Silverton, Oregon, and Its Environs MPS) 409 S Water St, Silverton, 11000078

SOUTH DAKOTA

Charles Mix County

Henry Cool Park, 1/2 mi N of intersection of HWY 50 and 365th Ave, Platte, 11000083

TENNESSEE

Greene County

Allen—Birdwell Farm, (Transformation of the Nolichucky Valley MPS) 3005 W Allen's Bridge Rd, Greeneville, 11000088

Putnam County

John's Place, 11 Gibson Ave, Cookeville, 11000085

Roane County

Tennessee Highway Patrol Building (Boundary Increase), Nelson St and US 70 (Gateway), Rockwood, 11000086

TENNESSEE

Union County

Hamilton—Law Store, Intersection of Mill Pond Hollow Rd and Walkers Ford Rd, Maynardsville, 11000084

Williamson County

WSM Radio Transmission Complex, 8012 Concord Rd, Brentwood, 11000087

[FR Doc. 2011-4667 Filed 3-1-11; 8:45 am]

BILLING CODE 4312-51-P